DEPARTMENT OF HEALTH AND HUMAN SERVICES

[Document Identifier: OS-0990-0339]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above email address within 60-days.

Proposed Project: State Health Information Exchange Cooperative Agreement Program—OMB No. 0990-0339—Extension—Office of the National Coordinator for Health Information Technology.

Abstract: The purpose of the State Health Information Exchange Cooperative Agreement Program, as authorized by Section 3013 of the American Recovery and Reinvestment Act is to provide grants to States and Qualified State Designated Entities for planning and implementation of interoperable health information technology. As part of that project, States and Qualified State Designated Entities are required to provide quarterly program reports and also complete a project evaluation annually. This request is for those two data gathering requirements and is to last four years which is the duration of the project.

Estimated Annualized Burden Table
Forms (If necessary) | Type of respondent | Number of respondents | Number of responses per respondent | Average burden hours per response | Total burden hours
Project Report | State government or a Qualified State Designated Entity | 56 | 4 | 4 | 896
Project Evaluation | State government or a Qualified State Designated Entity | 56 | 1 | 100 | 5,600
Total |  |  |  |  | 6,496

Seleda Perryman,
Office of the Secretary, Paperwork Reduction Act Reports Clearance Officer.

[FR Doc. 2010-2122 Filed 2-1-10; 8:45 am]

BILLING CODE 4150-45-P